DEPARTMENT OF TRANSPORTATION

Federal Aviation Administration

14 CFR Part 39

[Docket No. FAA-2004-19763; Directorate Identifier 2004-NM-187-AD]

RIN 2120-AA64

Airworthiness Directives; Bombardier Model CL-600-2B19 (Regional Jet Series 100 & 440) Airplanes

AGENCY: Federal Aviation Administration (FAA), DOT.

ACTION: Notice of proposed rulemaking (NPRM).

SUMMARY: The FAA proposes to adopt a new airworthiness directive (AD) for certain Bombardier Model CL-600-2B19 (Regional Jet Series 100 & 440) airplanes. This proposed AD would require doing repetitive inspections for fractures and cracks of the links of the aileron power control unit (PCU); replacing any fractured/cracked link; and doing applicable related investigative and corrective actions, if necessary. This proposed AD is prompted by reports indicating that the links of the aileron PCU have failed. We are proposing this AD to prevent failure of both links of the aileron PCU, which could result in reduced lateral control of the airplane.

DATES: We must receive comments on this proposed AD by January 6, 2005.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Bombardier, Inc., Canadair, Aerospace Group, P.O. Box 6087, Station Centre-ville, Montreal, Quebec H3C 3G9, Canada.

You can examine the contents of this AD docket on the Internet at http://dms.dot.gov, or in person at the Docket Management Facility, U.S. Department of Transportation, 400 Seventh Street SW., room PL-401, on the plaza level of the Nassif Building, Washington, DC. This docket number is FAA-2004-19763; the directorate identifier for this docket is 2004-NM-187-AD.

FOR FURTHER INFORMATION CONTACT: Technical information: Dan Parrillo, Aerospace Engineer, Systems and Flight Test Branch, ANE-172, FAA, New York Aircraft Certification Office, 1600 Stewart Avenue, Westbury, suite 410, New York 11590; telephone (516) 228-7305; fax (516) 794-5531.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19763; Directorate Identifier 2004-NM-187-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified us that an unsafe condition may exist on certain Bombardier Model CL-600-2B19 (Regional Jet Series 100 & 440) airplanes. TCCA advises that it has received reports indicating that the links of the aileron power control unit (PCU) have failed on several in-service airplanes. Failure of one link is considered to be a dormant failure. Failure of both links, if not corrected, could result in reduced lateral control of the airplane.

Relevant Service Information

Bombardier has issued Alert Service Bulletin A601R-27-130, Revision “B,” including Appendices A and B, dated May 11, 2004. The service bulletin describes procedures for doing repetitive detailed inspections for fractures and cracks of the links of the aileron PCU; replacing any fractured/cracked link; and doing applicable related investigative and corrective actions, if necessary. The related investigative/corrective actions include:

• Recording the torque value of the forward and aft attachment bolts for both links of the applicable aileron PCU;

• Checking for mismatch between the link and output fork of aileron PCU; and

• Doing an eddy current inspection of the lugs of the aileron PCU, and contacting the airplane manufacturer if a crack is found.

The service bulletin also describes procedures for submitting inspection findings and other information to the airplane manufacturer.

TCAA mandated the service information and issued Canadian airworthiness directive CF-2004-13, dated July 20, 2004, to ensure the continued airworthiness of these airplanes in Canada.

FAA's Determination and Requirements of the Proposed AD

This airplane model is manufactured in Canada and is type certificated for operation in the United States under the provisions of § 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are proposing this AD, which would require accomplishing the actions specified in the service information described previously, except as discussed under “Differences Between the AD and Service Bulletin.”

Differences Between Proposed AD and Service Bulletin

The service bulletin specifies that you may contact the manufacturer for disposition of any cracked aileron lug, but this proposed AD would require you to disposition and replace any cracked aileron lug using a method that we or TCCA (or its delegated agent) approve. In light of the type of replacement that would be required to address the unsafe condition, and consistent with existing bilateral airworthiness agreements, we have determined that, for this proposed AD, a replacement we or TCCA approve would be acceptable for compliance with this proposed AD.

Operators should note that, although the Accomplishment Instructions of the referenced service bulletin describe procedures for submitting a comment sheet related to service bulletin quality and a sheet recording compliance with the service bulletin, this proposed AD would not require those actions. We do not need this information from operators.

Interim Action

This is considered to be interim action until final action is identified, at which time we may consider further rulemaking.

Costs of Compliance

This proposed AD would affect about 697 airplanes of U.S. registry. The proposed inspection would take about 1 work hour per airplane, at an average labor rate of $65 per work hour. Based on these figures, the estimated cost of the proposed AD for U.S. operators is $45,305, or $65 per airplane, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly Canadair): Docket No. FAA-2004-19763; Directorate Identifier 2004-NM-187-AD.

Comments Due Date

(a) The Federal Aviation Administration must receive comments on this AD action by January 6, 2005.

Affected ADs

(b) None.

Applicability

(c) This AD applies to Bombardier Model CL-600-2B19 (Regional Jet Series 100 & 440) airplanes, serial numbers 7003 and subsequent; certificated in any category.

Unsafe Condition

(d) This AD was prompted by reports indicating that the links of the aileron power control unit (PCU) have failed. We are issuing this AD to prevent failure of both links of the aileron PCU, which could result in reduced lateral control of the airplane.

Compliance

(e) You are responsible for having the actions required by this AD performed within the compliance times specified, unless the actions have already been done.

Repetitive Inspections

(f) Before the accumulation of 2,000 total flight hours, or within 550 flight hours after the effective date of this AD, whichever occurs later, do a detailed inspection for fractures and cracks of the links of the aileron PCU, in accordance with Part A of the Accomplishment Instructions of Bombardier Alert Service Bulletin A601R-27-130, Revision “B,” including Appendices A and B, dated May 11, 2004. Repeat the detailed inspection thereafter at intervals not to exceed 1,000 flight hours.

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Corrective Action

(g) If any fractured or cracked link is detected during any inspection required by paragraph (f) of this AD, before further flight, replace the fractured/cracked link and do the applicable related investigative and corrective actions by doing all the actions in accordance with Part B of the Accomplishment Instructions of Bombardier Alert Service Bulletin A601R-27-130, Revision “B,” including Appendices A and B, dated May 11, 2004; except as required by paragraph (h) of this AD.

(h) If any crack is found on the aileron lugs during any related investigative action required by paragraph (g) of this AD, and the service bulletin recommends contacting Bombardier for disposition: Before further flight, disposition and replace the cracked aileron lug in accordance with a method approved by the Manager, New York Aircraft Certification Office (ACO), FAA, or Transport Canada Civil Aviation (TCCA) (or its delegated agent).

Acceptable Revisions of the Referenced Service Bulletin

(i) Actions specified in paragraphs (f) and (g) of this AD done before the effective date of this AD in accordance with Bombardier Alert Service Bulletin A601R-27-130, Revision “A,” including Appendices A and B, dated December 22, 2003; are acceptable for compliance with the corresponding requirements of paragraphs (f) and (g) of this AD.

(j) Accomplishment of the initial inspection of the links of the aileron PCU, and replacement if necessary, before the effective date of this AD in accordance with Bombardier Alert Service Bulletin A601R-27-130, including Appendices A and B, dated November 13, 2003, is acceptable for compliance with the corresponding requirements of paragraphs (f) and (g) of this AD; except as provided by paragraph (k) of this AD.

(k) Airplanes on which a fractured or cracked link of the aileron PCU was found that were not subject to an NDT inspection of the aileron lugs (i.e., related investigative action required by paragraph (h) of this AD) before the effective date of this AD must do an NDT inspection of the applicable lugs in accordance with paragraph (g) of this AD at the next repetitive detailed inspection of the link of the aileron PCU required by this AD.

Reporting

(l) Submit a report of the findings (both positive and negative) of the initial inspection required by paragraph (f) of this AD and any associated fractured or cracked link to Bombardier Aerospace Inc., c/o In-Service Engineering, 3rd floor, Dept. 508, 400 Cote Vertu Road West, Dorval, QC, Canada H4S 1Y9, at the applicable time specified in paragraph (l)(1) or (l)(2) of this AD. The report must be done in accordance with Appendices A and B of Bombardier Alert Service Bulletin A601R-27-130, Revision “B,” dated May 11, 20004. Under the provisions of the Paperwork Reduction Act of 1980 (44 U.S.C. 3501 et seq.), the Office of Management and Budget (OMB) has approved the information collection requirements contained in this AD and has assigned OMB Control Number 2120-0056.

(1) If the inspection was done after the effective date of this AD: Submit the report and any fractured/cracked link within 30 days after the inspection.

(2) If the inspection was accomplished prior to the effective date of this AD: Submit the report and any fractured/cracked link within 30 days after the effective date of this AD.

No Submission of Comment Sheets

(m) Although the service bulletin referenced in this AD specifies to submit comment and compliance sheets to the manufacturer, this AD does not include that requirement.

Alternative Methods of Compliance (AMOCs)

(n) The Manager, New York Aircraft Certification Office, FAA, has the authority to approve AMOCs for this AD, if requested in accordance with the procedures found in 14 CFR 39.19.

Related Information

(o) Canadian airworthiness directive CF-2004-13, dated July 20, 2004, also addresses the subject of this AD.

Issued in Renton, Washington, on November 26, 2004.
Ali Bahrami,
Manager, Transport Airplane Directorate, Aircraft Certification Service.

[FR Doc. 04-26796 Filed 12-6-04; 8:45 am]

BILLING CODE 4910-13-P